DEPARTMENT OF ENERGY

Federal Energy Regulatory Commission

Combined Notice of Filings #1

April 3, 2007.

Take notice that the Commission received the following electric rate filings:

Docket Numbers: ER05-741-001.

Applicants: Public Service Company of New Mexico.

Description: Public Service Company of New Mexico submits its second Revised Sheet 40 et al to implement the Offer of Settlement approved in the Settlement Order.

Filed Date: 3/30/2007.

Accession Number: 20070403-0097.

Comment Date: 5 p.m. Eastern Time on Friday, April 20, 2007.

Docket Numbers: ER06-185-008.

Applicants: New York Independent System Operator, Inc.

Description: New York Independent System Operator submits a supplemental to its 12/29/06 filing pursuant to FERC's 4/7/06 Order.

Filed Date: 3/29/2007.

Accession Number: 20070402-0090.

Comment Date: 5 p.m. Eastern Time on Thursday, April 19, 2007.

Docket Numbers: ER07-274-001.

Applicants: Juice Energy, Inc.

Description: Juice Energy, Inc submits a notice of change in status pursuant to the requirements of Order 652.

Filed Date: 3/30/2007.

Accession Number: 20070403-0093.

Comment Date: 5 p.m. Eastern Time on Friday, April 20, 2007.

Docket Numbers: ER07-679-000.

Applicants: Public Service Company of New Mexico.

Description: Public Service Company of New Mexico submits Substitute Sheet 207 et al to FERC Electric Tariff, Original Volume 6 pursuant to section 205 of the FPA.

Filed Date: 3/30/2007.

Accession Number: 20070402-0070.

Comment Date: 5 p.m. Eastern Time on Friday, April 20, 2007.

Docket Numbers: ER07-680-000.

Applicants: ISO New England Inc; New England Power Pool.

Description: ISO New England Inc et al jointly submit their Market Rule 1 and Billing Policy changes relating to Meter Data Errors.

Filed Date: 3/30/2007.

Accession Number: 20070403-0092.

Comment Date: 5 p.m. Eastern Time on Friday, April 20, 2007.

Docket Numbers: ER07-681-000.

Applicants: Electric Energy, Inc.

Description: Electric Energy, Inc submits modification 19 to a Power Contract dated 9/2/87 with the U.S. Dept of Energy designated as contract DE-AC05-760R01312 (Schedule FERC 10).

Filed Date: 3/30/2007.

Accession Number: 20070403-0032.

Comment Date: 5 p.m. Eastern Time on Friday, April 20, 2007.

Docket Numbers: ER07-682-000.

Applicants: Entergy Services, Inc.

Description: Entergy Operating Companies submits amendments to the Entergy System Agreement to make adjustments to its compliance filing made on 12/18/06.

Filed Date: 3/30/2007.

Accession Number: 20070403-0089.

Comment Date: 5 p.m. Eastern Time on Friday, April 20, 2007.

Docket Numbers: ER07-683-000.

Applicants: Entergy Services, Inc.

Description: Entergy Services Inc, agent and on behalf of the Entergy Operating Companies submits an amendment to the Entergy System Agreement.

Filed Date: 3/30/2007.

Accession Number: 20070403-0091.

Comment Date: 5 p.m. Eastern Time on Friday, April 20, 2007.

Docket Numbers: ER07-684-000.

Applicants: Entergy Services, Inc.

Description: Entergy Services Inc, agent on behalf of the Entergy Operating Companies submits an amendment to one provision of Service Schedule MSS-3, Section 30.12, to the Entergy System Agreement.

Filed Date: 3/30/2007.

Accession Number: 20070403-0090.

Comment Date: 5 p.m. Eastern Time on Friday, April 20, 2007.

Docket Numbers: ER07-689-000.

Applicants: PJM Interconnection, L.L.C.

Description: PJM Interconnection, LLC submits an executed Interconnection Service Agreement w/Industrial Power Generating Company, LLC et al.

Filed Date: 3/30/2007.

Accession Number: 20070403-0215.

Comment Date: 5 p.m. Eastern Time on Friday, April 20, 2007.

Docket Numbers: ER07-690-000.

Applicants: LG&E Energy Marketing Inc.

Description: LG&E Energy Marketing, Inc submits limited amendments to its Tariff for Cost-Based Sales of Capacity and Energy.

Filed Date: 3/30/2007.

Accession Number: 20070403-0043.

Comment Date: 5 p.m. Eastern Time on Friday, April 20, 2007.

Docket Numbers: ER07-692-000.

Applicants: Florida Power Corporation.

Description: Florida Power Corporation dba Progress Energy Florida, Inc submits a cost-based Power Sales Agreement with Seminole Electric Cooperative, Inc.

Filed Date: 3/30/2007.

Accession Number: 20070403-0216.

Comment Date: 5 p.m. Eastern Time on Friday, April 20, 2007.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Philis J. Posey,
Acting Secretary.

[FR Doc. E7-6584 Filed 4-6-07; 8:45 am]

BILLING CODE 6717-01-P